DEPARTMENT OF TRANSPORTATION

Federal Aviation Administration

Final Report of RTCA Future Flight Data Collection Committee

AGENCY: Federal Aviation Administration (FAA), DOT.

ACTION: Notice of Final Report of RTCA Future Flight Data Collection Committee.

SUMMARY: The FAA is issuing this notice to advise the public of a meeting on the Final Report of RTCA Future Flight Data Collection Committee.

DATES: The meeting will be held December 4, 2001, starting at 1 p.m.

ADDRESSES: The meeting will be held at RTCA, Inc. 1828 L Street, NW., Suite 805, Washington, DC, 20036.

FOR FURTHER INFORMATION CONTACT: RTCA Secretariat, 1828 L Street, NW., Suite 805, Washington, DC, 20036; telephone (202) 833-9339; fax (202) 833-9434; Web site http://www.rtca.org.

SUPPLEMENTARY INFORMATION: Pursuant to section 10(a)(2) of the Federal Advisory Committee Act (Pub. L. 92-463, 5 U.S.C. Appendix 2), notice is hereby given for the Final Report of the Future Flight Data Collection Committee, being reviewed at an RTCA Policy Board meeting. The agenda will include:

• December 4:

• Opening Session (Welcome and Introductory Remarks)

• Consider Document for Publication: Future Flight Data Collection Committee Final Report

• Closing Session (Other Business, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on November 26, 2001.
Janice L. Peters,
FAA Special Assistant, RTCA Advisory Committee.

[FR Doc. 01-29821 Filed 11-30-01; 8:45 am]

BILLING CODE 4910-13-M